DEPARTMENT OF TRANSPORTATION

Pipeline and Hazardous Materials Safety Administration

[Docket No. PHMSA-2017-0037; Notice No. 2017-06]

International Standards on the Transport of Dangerous Goods

AGENCY: Pipeline and Hazardous Materials Safety Administration (PHMSA), Department of Transportation (DOT).

ACTION: Notice of public meeting.

SUMMARY: On Tuesday, November 14, 2017, PHMSA will host two public meetings. The first meeting will be led by PHMSA to gain public input on current proposals and discuss potential new work items for inclusion in the agenda of the 52nd session of the United Nations Sub-Committee of Experts on the Transport of Dangerous Goods (UNSCOE TDG) held in Geneva, Switzerland from November 27 to December 6, 2017. The second meeting will be led by the Occupational Safety and Health Administration (OSHA) to discuss proposals in preparation for the 34th session of the United Nations Sub-Committee of Experts on the Globally Harmonized System of Classification and Labelling of Chemicals (UNSCEGHS) held in Geneva, Switzerland from December 6 to 8, 2017.

Time and Location: Both public meetings will take place on Tuesday, November 14, 2017, at DOT Headquarters, West Building, Oklahoma City Conference Room, 1200 New Jersey Avenue SE., Washington, DC 20590-0001.

PHMSA Public Meeting: 9:00 a.m. to 12:00 noon EST.

OSHA Public Meeting: 1:00 p.m. to 4:00 p.m. EST.

Advanced Meeting Registration: DOT requests that attendees pre-register for these meetings by completing the form at https://www.surveymonkey.com/r/GHSZ2Q9. Attendees may use the same form to pre-register for both meetings. Failure to pre-register may delay your access into the DOT Headquarters building. Additionally, if you are attending in-person, arrive early to allow time for security checks necessary to access the building.

Conference call-in and “Skype meeting” capability will be provided for both meetings. Specific information on such access will be posted when available at http://www.phmsa.dot.gov/hazmat/regs/international under Upcoming Events.

FOR FURTHER INFORMATION CONTACT: Mr. Steven Webb or Mr. Aaron Wiener, Office of Hazardous Materials Safety, Department of Transportation, Washington, DC 20590, (202) 366-8553.

SUPPLEMENTARY INFORMATION:

PHMSA Public Meeting

The primary purpose of PHMSA's meeting is to prepare for the 52nd session of the UNSCOE TDG. This session represents the second meeting scheduled for the 2017-2018 biennium. UNSCOE will consider proposals for the 21st Revised Edition of the United Nations Recommendations on the Transport of Dangerous Goods Model Regulations (Model Regulations), which may be implemented into relevant domestic, regional, and international regulations from January 1, 2021. Copies of working documents, informal documents, and the meeting agenda may be obtained from the United Nations (UN) Transport Division's Web site at http://www.unece.org/trans/main/dgdb/dgsubc3/c32017.html.

General topics on the agenda for the UNSCOE TDG meeting include:

• Explosives and related matters;

• Listing, classification, and packing;

• Electric storage systems;

• Transport of gases;

• Global harmonization of the Transport of Dangerous Goods Regulations with the Model Regulations;

• Guiding principles for the Model Regulations;

• Cooperation with the International Atomic Energy Agency;

• New proposals for amendments to the Model Regulations;

• Issues relating to the Globally Harmonized System of Classification and Labelling of Chemicals (GHS); and

• Miscellaneous pending issues.

Following the 52nd session of the UNSCOE TDG, a copy of the Sub-Committee's report will be available at the UN Transport Division's Web site at http://www.unece.org/trans/main/dgdb/dgsubc3/c3rep.html. PHMSA's Web site at http://www.phmsa.dot.gov/hazmat/regs/international provides additional information regarding the UNSCOE TDG and related matters.

OSHA Public Meeting

The Federal Register notice and additional detailed information relating to OSHA's public meeting will be available upon publication at www.regulations.gov (Docket No. OSHA-2016-0005). OSHA is hosting the meeting to prepare for the 34th session of the UNSCEGHS, to provide interested groups and individuals with an update on GHS related issues, and to solicit input on the development of U.S. Government positions on proposals submitted to the UNSCEGHS.

Signed at Washington, DC, on September 15, 2017.
William S. Schoonover,
Associate Administrator for Hazardous Materials Safety, Pipeline and Hazardous Materials Safety Administration.

[FR Doc. 2017-20044 Filed 9-19-17; 8:45 am]

BILLING CODE 4910-60-P